DEPARTMENT OF THE INTERIOR

National Park Service

[NPS-IMR-YELL-14103; PPIMYELL82, PPMRSNR1Z.AM0000]

Remote Vaccination Program To Reduce the Prevalence of Brucellosis in Yellowstone Bison, Final Environmental Impact Statement, Yellowstone National Park, Wyoming

AGENCY: National Park Service, Interior.

ACTION: Notice of Availability.

SUMMARY: Pursuant to the National Environmental Policy Act of 1969, 42 U.S.C. 4332(2)(C), the National Park Service announces the availability of a Final Environmental Impact Statement for the Remote Vaccination Program to Reduce the Prevalence of Brucellosis in Yellowstone Bison, Yellowstone National Park, Wyoming.

DATES: The National Park Service will execute a Record of Decision (ROD) no sooner than 30 days following publication by the Environmental Protection Agency of the Notice of Availability of the Final Environmental Impact Statement.

ADDRESSES: Information will be available for public inspection online at http://parkplanning.nps.gov/YELL, and at the Yellowstone Center for Resources, P.O. Box 168, Yellowstone National Park, Wyoming 82190, telephone (307) 344-2203.

FOR FURTHER INFORMATION CONTACT: Jennifer Carpenter or Rick Wallen, P.O. Box 168, Yellowstone National Park, WY 82190, telephone (307) 344-2203, or by email at YELL_Bison_Management@NPS.GOV.

SUPPLEMENTARY INFORMATION: The document describes three management alternatives including a no-action alternative and the NPS preferred alternative. The anticipated environmental impacts of those alternatives are analyzed. The final document also includes responses to substantive comments from the public, from traditionally associated American Indian tribes, and from government agencies.

Alternative A (No Action) describes the currently authorized syringe vaccination of calves and yearlings that are periodically captured at the park boundary. Alternative B describes a proposed action to continue the syringe vaccination program and add a field program to remotely vaccinate calves and yearlings using a pneumatic rifle to deliver an absorbable projectile with a vaccine payload to muscle tissue. Alternative C describes a program to continue the syringe vaccination action and add a field program to remotely vaccinate calves, yearlings, and adult females as is described in Alternative B.

The National Park Service has identified Alternative A, No Action, as its preferred alternative based on substantial uncertainties associated with vaccine efficacy, delivery, duration of the vaccine-induced protective immune response, diagnostics, and bison behavior, existing management flexibilities, and evaluation of public comments. Consistent with the 2000 Interagency Bison Management Plan (IBMP), the preferred alternative would continue hand-syringe vaccination of bison at capture facilities near the park boundary and conduct monitoring and research on the relationship between vaccine-induced immune responses and protection from clinical disease (e.g., abortions). Also, selective culling of potentially infectious bison based on age and diagnostic test results may be continued at capture facilities to reduce the number of abortions that maintain the disease. The preferred alternative would continue the adaptive management program, as described in the 2000 Record of Decision for the IBMP and subsequent adaptive management adjustments, to learn more about the disease brucellosis and answer uncertainties, as well as to develop or improve suppression techniques that could be used to facilitate effective outcomes, minimize adverse impacts, and lower operational costs of efforts to reduce brucellosis prevalence in the future.

The National Park Service would also continue to work with other federal and state agencies, American Indian tribes, academic institutions, non-governmental organizations, and other interested parties to develop holistic management approaches, monitoring and research projects that could be conducted to improve the adaptive management decision process, and better vaccines, delivery methods, and diagnostics for reducing the prevalence of brucellosis in bison and elk and transmissions to cattle.

Dated: October 31, 2013.
Laura E. Joss,
Acting Regional Director, Intermountain Region, National Park Service.

[FR Doc. 2014-00636 Filed 1-14-14; 8:45 am]

BILLING CODE 4312-CB-P